DEPARTMENT OF HOMELAND SECURITY

Coast Guard

33 CFR Part 117

[Docket No. USCG-2014-0952]

Drawbridge Operation Regulation; Victoria Barge Canal, Bloomington, Texas

AGENCY: Coast Guard, DHS.

ACTION: Notice of temporary deviation from regulations; request for comments.

SUMMARY: The Coast Guard has issued a temporary deviation from the method of operation for the Victoria Barge Canal Railroad Bridge across the Victoria Barge Canal, mile 29.4 at Bloomington, Victoria County, Texas. The bridge will continue to open on signal. The bridge owner, the Victoria County Navigation District, in conjunction with the Union Pacific Railroad (UPRR), the operator of the bridge, requested permission to remotely operate the bridge. This deviation tests a remote operating system as the method for opening the bridge under the existing operating schedule to determine whether a permanent change to remote operations can be approved.

DATES: This deviation is effective from midnight on December 30, 2014 through midnight on June 29, 2015.

Comments and related material must be received by the Coast Guard on March 2, 2015.

ADDRESSES: You may submit comments identified by docket number USCG-2014-0952 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except Federal holidays. The telephone number is 202-366-9329.

See the “Public Participation and Request for Comments” portion of the SUPPLEMENTARY INFORMATION section below for instructions on submitting comments. To avoid duplication, please use only one of these three methods.

FOR FURTHER INFORMATION CONTACT: If you have questions on this test deviation, call or email the Coast Guard; Mr. David M. Frank, telephone 504-671-2128, email david.m.frank@uscg.mil. If you have questions on viewing or submitting material to the docket, call Cheryl Collins, Program Manager, Docket Operations, telephone 202-366-9826.

SUPPLEMENTARY INFORMATION:

A. Public Participation and Request for Comments

We encourage you to participate in this rulemaking by submitting comments and related materials. All comments received will be posted, without change, to http://www.regulations.gov and will include any personal information you have provided.

1. Submitting Comments

If you submit a comment, please include the docket number for this rulemaking (USCG-2014-0952), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, type the docket number [USCG-2014-0952] in the “SEARCH” box and click “SEARCH.” Click on “Submit a Comment” on the line associated with this rulemaking. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2014-0952) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one using one of the three methods specified under ADDRESSES. Please explain why one would be beneficial. If we determine that one would aid this rulemaking, we will hold one at a time and place announced by a later notice in the Federal Register.

B. Basis and Purpose

The bridge owner, the Victoria County Navigation District, in conjunction with the UPRR requested permission to remotely operate the Victoria Barge Canal Railroad Bridge across the Victoria Barge Canal, mile 29.4 at Bloomington, Victoria County, Texas. Traffic on the waterway consists of primarily commercial traffic, vessels and tows providing services to the Port of Victoria. The vertical lift bridge has a vertical clearance of 22 feet above high water in the closed-to-navigation position and 50 feet above high water in the open-to-navigation position.

Presently, the bridge is required to open on signal for the passage of vessels in accordance with 33 CFR 117.5. However, due to the passing trains, when a request signal to open the bridge is received and before opening the bridge for vessel traffic, the tender is required by his company to contact the railroad dispatcher so that railroad traffic can be stopped, if necessary. The bridge will continue to open on signal for the passage of vessels, but the method of opening the bridge will be accomplished through remote operation by the railroad dispatcher.

The bridge operator, UPRR, determined that by remotely operating the bridge, vessel transit through the bridge will become more efficient. This new remote method of operation provides for the signal to open to be received directly by the railroad dispatcher and will allow the railroad dispatcher to then open the bridge from the remote location.

Vessel traffic on the waterway will be monitored by the railroad dispatcher through the use of Automatic Identification System (AIS). The Victoria County Navigation District recommends that all vessels wishing to transit on the Victoria Barge Canal up to the Port of Victoria have an operating AIS transponder onboard. This AIS tracking system allows the Port of Victoria and the railroad dispatcher to determine where vessels are located on the waterway in relationship to the bridge. Movements of vessels with AIS onboard within two miles of the bridge will trigger notification to the railroad dispatcher that a vessel is approaching the bridge and needs the bridge to be opened. Any vessel that has passed the two-mile signage may also choose to contact the railroad dispatcher via telephone. Upon receipt of this initial notification, the railroad dispatcher must contact the vessel via radiotelephone (marine radio) on VHF-FM channel 13 to coordinate the safe passage of the vessel through the bridge. The railroad dispatcher must provide information to include, but not limited to, the availability to continue the vessel transit as the bridge is open for navigation or that the vessel will have to wait as a train is in the block. If a vessel is required to wait, the railroad dispatcher must indicate to the vessel the amount of time the vessel will have to wait so that the train can be cleared from the block.

In preparation for this test deviation, the bridge owner has posted signage regarding the operation of the bridge at two miles, at one mile, and at one-half mile from the bridge in each direction. To facilitate the continued smooth operation of the bridge, mariners should exchange opening requests using the following method:

1. When a vessel with AIS equipment onboard approaches the two-mile post, the vessel may continue to transit the waterway but must tune their radiotelephone to VHF-FM channel 13 and receive passing instructions from the railroad dispatcher. The dispatcher must contact the vessel promptly to provide passing instruction to insure the continued safe transit of the vessel. Vessels without AIS equipment or vessels with AIS who would prefer to call via telephone, may call the railroad dispatcher at 800-262-4691 to arrange passing instructions.

2. When any vessel approaches the one-mile post, the railroad dispatcher should have either cleared the vessel through the bridge or given an indication that a train is in the block and the vessel will be cleared as soon as practicable. If the vessel has not yet spoken with the railroad dispatcher, the vessel should immediately call the railroad dispatcher via telephone at 800-262-4691.

3. When any vessel reaches the one-half mile post and has not communicated with the railroad dispatcher nor been cleared to proceed, the vessel should stop and contact either the railroad dispatcher at 800-262-4691 or the Port of Victoria emergency contact at 361-570-8855.

During the test deviation phase, the bridge will be operated from Spring, TX, but the bridge operator will be required to have a signal maintainer on call to respond to bridge operation issues should one occur.

In accordance with 33 CFR 117.35(e), the drawbridge must return to its regular operating schedules immediately at the end of the effective period of this temporary deviation. This deviation from the operating regulations is authorized under 33 CFR 117.35.

Dated: December 4, 2014.
David M. Frank,
Bridge Administrator, Eighth Coast Guard District.

[FR Doc. 2014-30494 Filed 12-29-14; 8:45 am]

BILLING CODE 9110-04-P